DEPARTMENT OF THE TREASURY

Internal Revenue Service

Proposed Collection; Comment Request for Information Collection Tools Relating to the Voluntary Disclosure Practice and the Streamlined Filing Compliance Procedures

AGENCY: Internal Revenue Service (IRS), Treasury.

ACTION: Notice and request for comments.

SUMMARY: The Internal Revenue Service, as part of its continuing effort to reduce paperwork and respondent burden, invites the general public and other Federal agencies to take this opportunity to comment on continuing information collections, as required by the Paperwork Reduction Act of 1995. The IRS is soliciting comments concerning information collection requirements related to voluntary disclosure practice and the streamlined filing compliance procedures.

DATES: Written comments should be received on or before December 20, 2024 to be assured of consideration.

ADDRESSES: Direct all written comments to Andres Garcia, Internal Revenue Service, Room 6526, 1111 Constitution Avenue NW, Washington, DC 20224, or by email to pra.comments@irs.gov. Include OMB control number 1545-2241 or Voluntary Disclosure Practice and the Streamlined Filing Compliance Procedures, in the subject line.

FOR FURTHER INFORMATION CONTACT: Requests for additional information or copies of the form(s) should be directed to Kerry Dennis at (202) 317-5751, or at Internal Revenue Service, Room 6526, 1111 Constitution Avenue NW, Washington, DC 20224, or through the internet, at Kerry.L.Dennis@irs.gov.

SUPPLEMENTARY INFORMATION:

Title: Voluntary Disclosure Practice and the Streamlined Filing Compliance Procedures.

OMB Number: 1545-2241.

Form Number(s): 14457, 14653, 14654 and 15023.

Abstract: The IRS offers two very different compliance paths to two very different populations of taxpayers. First, the Voluntary Disclosure Practice is a longstanding practice of IRS Criminal Investigation (CI). CI takes timely, accurate, and complete voluntary disclosures under consideration when determining whether to recommend criminal prosecution. A voluntary disclosure will not automatically guarantee immunity from prosecution; however, a voluntary disclosure may result in prosecution not being recommended. Form 14457 is used for all voluntary disclosures. Second, the Streamlined Filing Compliance Procedures are available to eligible taxpayers who can truthfully certify that their failure to report foreign financial assets and pay all tax due in respect of those assets resulted from non-willful conduct. Forms 14653 and 14654 relate to the Streamlined Filing Compliance Procedures. Form 15023 has been revised to be used as a response to compliance alerts.

Current Actions: There are changes to the paperwork burden previously approved by OMB. The agency has updated the number of respondents/responses for Forms 14457, 14653, and 14654. Form 15023 has been revised, but the changes do not affect burden and the estimated number of respondents/responses will remain the same and will be re-evaluated during the next revision cycle. The changes to the response estimates result in an overall decrease of 1,478 responses and an overall annual time burden of 61,496 hours.

Type of Review: Revision of a currently approved collection.

Affected Public: Individuals or Households.

Estimated Number of Respondents: 15,091.

Estimated Time per Response: 21 hours, 47 min.

Estimated Total Annual Burden Hours: 328,892 hours.

The following paragraph applies to all the collections of information covered by this notice.

An agency may not conduct or sponsor, and a person is not required to respond to, a collection of information unless the collection of information displays a valid OMB control number. Books or records relating to a collection of information must be retained if their contents may become material in the administration of any internal revenue law. Generally, tax returns and tax return information are confidential, as required by 26 U.S.C. 6103.

Request for Comments: Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: October 16, 2024.
Kerry L. Dennis,
Tax Analyst.

[FR Doc. 2024-24277 Filed 10-18-24; 8:45 am]

BILLING CODE 4830-01-P